DEPARTMENT OF ENERGY

Federal Energy Regulatory Commission

[Project No. 12721-006]

Pepperell Hydro Company, LLC; Notice of Settlement Agreement and Soliciting Comments

Take notice that the following settlement agreement has been filed with the Commission and is available for public inspection.

a. Type of Application: Settlement Agreement.

b. Project No.: 12721-006.

c. Date filed: April 11, 2014.

d. Applicant: Pepperell Hydro Company, LLC.

e. Name of Project: Pepperell Hydroelectric Project.

f. Location: On the Nashua River, in the town of Pepperell, Middlesex County, Massachusetts. The project would not occupy lands of the United States.

g. Filed Pursuant to: Rule 602 of the Commission's Rules of Practice and Procedure, 18 CFR 385.602.

h. Applicant Contact: Dr. Peter B. Clark, 823 Bay Road, P.O. Box 149, Hamilton, MA 01936; (978) 468-3999; or pclark@swiftrivercompany.com.

i. FERC Contact: Brandon Cherry at (202) 502-8328 or brandon.cherry@ferc.gov.

j. Deadline for filing comments: June 2, 2014; reply comments are due on June 12, 2014. This notice establishes a deadline for filing comments on the settlement agreement that corresponds with the deadline established by the Commission notice issued on April 1, 2014.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-12721-006.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Pepperell Hydro Company, LLC filed the settlement agreement on behalf of itself, the U.S. Fish and Wildlife Service, National Park Service, Massachusetts Division of Fisheries and Wildlife, Massachusetts Department of Environmental Protection, Nashua River Watershed Association, and town of Pepperell, Massachusetts. The purpose of the settlement agreement is to resolve among the signatories all issues associated with issuance of an original license for the project regarding mode of operation, bypassed reach flows, impoundment refill, upstream and downstream American eel passage, upstream and downstream fish passage, mussels, water quality, invasive species, and recreation. The signatories request that the Commission incorporate into any original license for the project the measures included in section 3 of the settlement agreement.

l. A copy of the settlement agreement is available for review at the Commission in the Public Reference Room or may be viewed on the Commission's Web site at http://www.ferc.gov using the “eLibrary” link. Enter the docket number excluding the last three digits in the docket number field to access the document. For assistance, contact FERC Online Support.

You may also register online at http://www.ferc.gov/docs-filing/esubscription.asp to be notified via email of new filings and issuances related to this or other pending projects. For assistance, contact FERC Online Support.

Dated: May 9, 2014.
Kimberly D. Bose,
Secretary.

[FR Doc. 2014-11268 Filed 5-15-14; 8:45 am]

BILLING CODE 6717-01-P